SECURITIES AND EXCHANGE COMMISSION

[Release No. 34-65410; File No. 4-631]

Joint Industry Plan; Notice of Designation of a Longer Period for Commission Action on the National Market System Plan To Address Extraordinary Market Volatility by BATS Exchange, Inc., BATS Y-Exchange, Inc., Chicago Board Options Exchange, Incorporated, Chicago Stock Exchange, Inc., EDGA Exchange, Inc., EDGX Exchange, Inc., Financial Industry Regulatory Authority, Inc., NASDAQ OMX BX, Inc., NASDAQ OMX PHLX LLC, The Nasdaq Stock Market LLC, National Stock Exchange, Inc., New York Stock Exchange LLC, NYSE Amex LLC, and NYSE Arca, Inc.

September 27, 2011.

On April 5, 2011, NYSE Euronext, on behalf of New York Stock Exchange LLC (“NYSE”), NYSE Amex LLC (“NYSE Amex”), and NYSE Arca, Inc. (“NYSE Arca”), and the following parties to the proposed National Market System Plan: BATS Exchange, Inc., BATS Y-Exchange, Inc., Chicago Board Options Exchange, Incorporated, Chicago Stock Exchange, Inc., EDGA Exchange, Inc., EDGX Exchange, Inc., Financial Industry Regulatory Authority, Inc., NASDAQ OMX BX, Inc., NASDAQ OMX PHLX LLC, the Nasdaq Stock Market LLC, and National Stock Exchange, Inc. (collectively with NYSE, NYSE Amex, and NYSE Arca, the “Participants”), filed with the Securities and Exchange Commission (“Commission”), pursuant to Section 11A of the Securities Exchange Act of 1934 (“Act”),¹ and Rule 608 of Regulation NMS (“Rule 608”) thereunder,² a proposed Plan to Address Extraordinary Market Volatility (“Plan”).³ The proposed Plan was published for comment in the Federal Register on June 1, 2011.⁴ The Commission received 18 comments on the proposed Plan.⁵

¹ 15 U.S.C. 78k-1.

² 17 CFR 242.608.

³ See Letter from Janet M. McGinness, Senior Vice President, Legal and Corporate Secretary, NYSE Euronext, to Elizabeth M. Murphy, Secretary, Commission, dated April 5, 2011.

⁴ See Securities Exchange Act Release No. 64547 (May 25, 2011), 76 FR 31647.

⁵ See Letter from Steve Wunsch, Wunsch Auction Associates, LLC, to Elizabeth M. Murphy, Secretary, Commission, dated June 2, 2011; Letter from Peter J. Driscoll, Investment Professional, Chicago, IL, to Elizabeth M. Murphy, Secretary, Commission, dated June 17, 2011; Letter from Stuart J. Kaswell, Executive Vice President & Managing Director, General Counsel, Managed Funds Association, to Elizabeth M. Murphy, Secretary, Commission, dated June 21, 2011; Letter from George U. Sauter, Managing Director and Chief Investment Officer, The Vanguard Group, Inc., to Elizabeth M. Murphy, Secretary, Commission, dated June 22, 2011; Letter from Karrie McMillan, General Counsel, Investment Company Institute, to Elizabeth M. Murphy, Secretary, Commission, dated June 22, 2011; Letter from Manisha Kimmel, Executive Director, Financial Information Forum, to Elizabeth M. Murphy, Secretary, Commission, dated June 22, 2011; Letter from Craig S. Donohue, Chief Executive Officer, CME Group Inc., to Elizabeth M. Murphy, Secretary, Commission, dated June 22, 2011; Letter from Joseph N. Cangemi, Chairman, and Jim Toes, President and Chief Executive Officer, Security Traders Association, to Elizabeth M. Murphy, Secretary, Commission, dated June 22, 2011; Letter from Leonard J. Amoruso, General Counsel, Knight Capital Group, Inc., to Elizabeth M. Murphy, Secretary, Commission, dated June 22, 2011; Letter from Ann L. Vlcek, Managing Director and Associate General Counsel, Securities Industry and Financial Markets Association, to Elizabeth M. Murphy, Secretary, Commission, dated June 22, 2011; Letter from Jamie Selway, Managing Director, and Patrick Chi, Chief Compliance Officer, ITG Inc., to Elizabeth M. Murphy, Secretary, Commission, dated June 23, 2011; Letter from Jose Marques, Managing Director and Global Head of Electronic Equity Trading, Deutsche Bank Securities Inc., to Elizabeth M. Murphy, Secretary, Commission, dated June 23, 2011; Letter from Kimberly Unger, Esq., Executive Director, The Security Traders Association of New York, Inc., to Elizabeth M. Murphy, Secretary, Commission, dated June 23, 2011; Letter from James J. Angel, PhD, CFA, Associate Professor of Finance, Georgetown University, McDonough School of Business, to Commission, dated June 24, 2011; Letter from John A. McCarthy, General Counsel, GETCO, to Elizabeth M. Murphy, Secretary, Commission, dated June 24, 2011; Letter from Andrew C. Small, Executive Director and General Counsel, Scottrade, Inc., to Elizabeth M. Murphy, Secretary, Commission, dated July 5, 2011; Letter from Peter Skopp, President, Molinete Trading Inc., to Elizabeth M. Murphy, Secretary, Commission, dated July 19, 2011; and Letter from Sal Arnuk, Joe Saluzzi, and Paul Zajac, Themis Trading, LLC, to Elizabeth M. Murphy, Secretary, Commission. Copies of all comments received on the proposed Plan are available on the Commission's Web site, located at http://www.sec.gov/comments/4-631/4-631.shtml. Comments are also available for Web site viewing and printing in the Commission's Public Reference Room, 100 F Street, NE., Washington, DC 20549, on official business days between the hours of 10 a.m. and 3 p.m ET.

Rule 608 ⁶ under Section 11A of the Act ⁷ provides that within 120 days of the date of publication of notice of filing of a national market system plan or an amendment to an effective national market system plan, or within such longer period as the Commission may designate up to 180 days of such date if it finds such longer period to be appropriate and publishes its reasons for so finding or as to which the sponsors consent, the Commission shall approve such plan or amendment, with such changes or subject to such conditions as the Commission may deem necessary or appropriate, if it finds that such plan or amendment is necessary or appropriate in the public interest, for the protection of investors and the maintenance of fair and orderly markets, to remove impediments to, and perfect the mechanisms of, a national market system, or otherwise in furtherance of the purposes of the Act. The 120th day for this notice of filing of a national market system plan is September 29, 2011.

⁶ 17 CFR 242.608.

⁷ 15 U.S.C. 78k-1.

The Commission is hereby extending the 120-day time period for Commission action on the proposed rule change. The Commission finds that it is appropriate to designate a longer period within which to take action on the proposed rule change. In particular, the extension of time will ensure that the Commission has sufficient time to consider and take action on the Participants' proposal, in light of, among other things, the comments received on the proposal.

Accordingly, pursuant to Section 11A of the Act ⁸ and Rule 608 thereunder,⁹ the Commission designates November 28, 2011 as the date by which the Commission shall approve the proposed Plan (File Number 4-631), with such changes or subject to such conditions as the Commission may deem necessary or appropriate, if it finds that such plan or amendment is necessary or appropriate in the public interest, for the protection of investors and the maintenance of fair and orderly markets, to remove impediments to, and perfect the mechanisms of, a national market system, or otherwise in furtherance of the purposes of the Act.

⁸ Id.

⁹ 17 CFR 242.608.

¹⁰ 17 CFR 200.30-3(a)(42).

For the Commission, by the Division of Trading and Markets, pursuant to delegated authority.¹⁰
Elizabeth M. Murphy,
Secretary.

[FR Doc. 2011-25353 Filed 9-30-11; 8:45 am]

BILLING CODE 8011-01-P